FEDERAL MINE SAFETY AND HEALTH REVIEW COMMISSION

Sunshine Act Meeting Notice

TIME AND DATE: 10 a.m., Thursday, March 8, 2012.

PLACE: The Richard V. Backley Hearing Room, 9th Floor, 601 New Jersey Avenue NW., Washington, DC.

STATUS: Open.

MATTERS TO BE CONSIDERED: The Commission will consider and act upon the following in open session: Secretary of Labor on behalf of Pendley v. Highland Mining Co., Docket Nos. WEVA 2006-506-D et al. (Issues include whether the Commission's prior decision upholding the judge's determination that no unlawful discrimination occurred was consistent with Commission precedents.)

Any person attending this meeting who requires special accessibility features and/or auxiliary aids, such as sign language interpreters, must inform the Commission in advance of those needs. Subject to 29 CFR 2706.150(a)(3) and 2706.160(d).

CONTACT PERSON FOR MORE INFO: Jean Ellen (202) 434-9950/(202) 708-9300 for TDD Relay/1-800-877-8339 for toll free.

Dated: February 29, 2012.
Emogene Johnson,
Administrative Assistant.

[FR Doc. 2012-5334 Filed 3-1-12; 11:15 am]

BILLING CODE 6735-01-P